DEPARTMENT OF COMMERCE

International Trade Administration

[A-533-871, A-475-835, A-469-815]

Finished Carbon Steel Flanges From India, Italy, Spain: Postponement of Preliminary Determinations of the Less-Than-Fair-Value Investigations

AGENCY: Enforcement and Compliance, International Trade Administration, Department of Commerce.

DATES: Effective November 23, 2016.

FOR FURTHER INFORMATION CONTACT: Fred Baker at (202) 482-2924 (India), Edythe Artman at (202) 482-3931 (Italy), and Mark Flessner at (202) 482-6312 (Spain), AD/CVD Operations, Enforcement and Compliance, International Trade Administration, Department of Commerce, 1401 Constitution Avenue NW., Washington, DC 20230.

SUPPLEMENTARY INFORMATION:

Background

On July 20, 2016, the Department of Commerce (the Department) initiated antidumping duty investigations concerning imports of finished carbon steel flanges from India, Italy and Spain.¹ The notice of initiation stated that the Department, in accordance with section 733(b)(1)(A) of the Tariff Act of 1930, as amended (the Act), and 19 CFR 351.205(b)(1), would issue its preliminary determinations no later than 140 days after the date of the initiation, unless postponed.² The current deadline for the preliminary determinations of these investigations is no later than December 7, 2016.

¹ See Finished Carbon Steel Flanges From India, Italy, and Spain: Initiation of Less-Than-Fair-Value Investigations, 81 FR 49619 (July 28, 2016).

² Id., at 49622.

Postponement of Preliminary Determinations

On October 31, 2016, Weldbend Corporation and Boltex Manufacturing Co., L.P. (collectively, the petitioners), made timely requests pursuant to section 733(c)(1)(A) of the Act and 19 CFR 351.205(e), for a 50-day postponement of the preliminary determinations in these investigations in order to provide the Department with sufficient time to review submissions and request supplemental information, in order to arrive at the most accurate results possible.³ No other parties commented.

³ See the letters from the petitioners to the Secretary of Commerce entitled, “Finished Carbon Steel Flanges from India: Request to Postpone Preliminary Determination,” dated October 31, 2016; “Finished Carbon Steel Flanges from Italy: Request to Postpone Preliminary Determination,” dated October 31, 2016; “Finished Carbon Steel Flanges from Spain: Request to Postpone Preliminary Determination,” dated October 31, 2016.

For the reasons stated above, and because there are no compelling reasons to deny the petitioners' request, the Department is postponing the deadline for the preliminary determinations by 50 days, until January 26, 2017, in accordance with section 733(c)(1)(A) of the Act and 19 CFR 351.205(b)(2).

In accordance with section 735(a)(1) of the Act, the deadline for the final determinations of these investigations will continue to be 75 days after the date of the preliminary determinations, unless postponed at a later date.

This notice is issued and published pursuant to section 733(c)(2) of the Act and 19 CFR 351.205(f)(1).

Dated: November 17, 2016.
Paul Piquado,
Assistant Secretary for Enforcement and Compliance.

[FR Doc. 2016-28240 Filed 11-22-16; 8:45 am]

BILLING CODE 3510-DS-P